DEPARTMENT OF THE INTERIOR

National Park Service

[NPS-WASO-NAGPRA-NPS0033983; PPWOCRADN0-PCU00RP14.R50000]

Notice of Inventory Completion: Tennessee Valley Authority, Knoxville, TN

AGENCY: National Park Service, Interior.

ACTION: Notice.

SUMMARY: The Tennessee Valley Authority (TVA) has completed an inventory of human remains and associated funerary objects, in consultation with the appropriate Indian Tribes and Native Hawaiian organizations and has determined that there is a cultural affiliation between the human remains and associated funerary objects and present-day Indian Tribes or Native Hawaiian organizations. Lineal descendants or representatives of any Indian Tribe or Native Hawaiian organization not identified in this notice that wish to request transfer of control of these human remains and associated funerary objects should submit a written request to the TVA. If no additional requestors come forward, transfer of control of the human remains and associated funerary objects to the Indian Tribes or Native Hawaiian organizations stated in this notice may proceed.

DATES: Lineal descendants or representatives of any Indian Tribe or Native Hawaiian organization not identified in this notice that wish to request transfer of control of these human remains and associated funerary objects should submit a written request with information in support of the request to the TVA at the address in this notice by July 6, 2022.

FOR FURTHER INFORMATION CONTACT: Ms. Marianne Shuler, Tennessee Valley Authority, 400 West Summit Hill Drive, WT11C, Knoxville, TN 37902-1401, telephone (865) 253-1265, email mmshuler@tva.gov.

SUPPLEMENTARY INFORMATION: Notice is here given in accordance with the Native American Graves Protection and Repatriation Act (NAGPRA), 25 U.S.C. 3003, of the completion of an inventory of human remains and associated funerary objects under the control of the Tennessee Valley Authority, Knoxville, TN. The human remains and associated funerary objects were removed from site 1LU496, Dust Cave, in Lauderdale County, AL.

This notice is published as part of the National Park Service's administrative responsibilities under NAGPRA, 25 U.S.C. 3003(d)(3). The determinations in this notice are the sole responsibility of the museum, institution, or Federal agency that has control of the Native American human remains and associated funerary objects. The National Park Service is not responsible for the determinations in this notice.

Consultation

A detailed assessment of the human remains was made by TVA professional staff in consultation with representatives of the Cherokee Nation; Eastern Band of Cherokee Indians; The Chickasaw Nation; The Choctaw Nation of Oklahoma; The Muscogee (Creek) Nation; The Seminole Nation of Oklahoma; and the Thlopthlocco Tribal Town (hereafter referred to as “The Consulted Tribes”).

History and Description of the Remains

Dust Cave (site 1LU496) is located on a bluff adjacent to the right descending bank of the Tennessee River within TVA's Pickwick Reservoir, in Lauderdale County, Alabama. The cave was recorded in the 1980s by Richard Cobb following exploration by local speleologists. A subsequent evaluation of caves adjacent to Pickwick Reservoir verified that Dust Cave had a human habitation of considerable antiquity. From 1989 to 2002, Dust Cave was the focus of excavations by the University of Alabama. The cultural items listed in this notice were excavated prior to November 16, 1990.

Between 1989 and November of 1990, human remains representing, at minimum, 29 individuals were removed from Dust Cave, site 1LU496, in Lauderdale County, AL, during excavations conducted by the University of Alabama. The principal investigator, Boyce Driskel, in a report to the National Science Foundation, wrote that the site contains five discrete prehistoric components, including “a Late Paleoindian component with estimated age of 10,500 B.P. to 10,000 B.P.; an Early Side Notched component with an estimated age of 10,000 B.P. to 9,000 B.P; a Kirk Stemmed component with an estimated age of 8,500 B.P. to 7,000 B.P.; an Eva/Morrow Mountain component with estimated age of 7,000 B.P. to 6,000 B.P.; and a Seven Mile Island phase component with estimated age of 6,000 B.P. to 5,200 B.P.” The human remains belong to 17 adults of unknown sex and 12 subadults of unknown. No individuals were identified. The three associated funerary objects are one lot of shell beads, one lot of ground stone, and one lot of sediment samples.

Based on archeological, geographical, and oral traditional information, the TVA has determined that the earlier group to which these human remains belonged are ancestral to the Cherokee Nation, Eastern Band of Cherokee Indians, and The Chickasaw Nation.

Determinations Made by the Tennessee Valley Authority

Officials of the Tennessee Valley Authority have determined that:

• Pursuant to 25 U.S.C. 3001(9), the human remains described in this notice are Native American based on their presence in a prehistoric archeological site and osteological analysis.

• Pursuant to 25 U.S.C. 3001(9), the human remains described in this notice represent the physical remains of 29 individuals of Native American ancestry.

• Pursuant to 25 U.S.C. 3001(3)(A), the three objects described in this notice are reasonably believed to have been placed with or near individual human remains at the time of death or later as part of the death rite or ceremony.

• Pursuant to 25 U.S.C. 3001(2), there is a relationship of shared group identity that can be reasonably traced between the Native American human remains and associated funerary objects and the Cherokee Nation; Eastern Band of Cherokee Indians; and The Chickasaw Nation (hereafter referred to as “The Tribes”).

Additional Requestors and Disposition

Lineal descendants or representatives of any Indian Tribe or Native Hawaiian organization not identified in this notice that wish to request transfer of control of these human remains and associated funerary objects should submit a written request with information in support of the request to Ms. Marianne Shuler, Tennessee Valley Authority, 400 West Summit Hill Drive, WT11C, Knoxville, TN 37902-1401, telephone (865) 253-1265, email mmshuler@tva.gov, by July 6, 2022. After that date, if no additional requestors have come forward, transfer of control of the human remains, associated funerary objects and sacred objects to The Tribes may proceed.

The Tennessee Valley Authority is responsible for notifying The Consulted Tribes that this notice has been published.

Dated: May 25, 2022.
Melanie O'Brien,
Manager, National NAGPRA Program.

[FR Doc. 2022-12109 Filed 6-3-22; 8:45 am]

BILLING CODE 4312-52-P